DEPARTMENT OF HOMELAND SECURITY

U.S. Citizenship and Immigration Services

[CIS No. 2522-12; DHS Docket No. USCIS 2012-0007]

RIN 1615-ZB12

Designation of Syrian Arab Republic for Temporary Protected Status

Correction

In notice document 2012-7498 appearing on pages 19026 through 19030 in the issue of Thursday, March 29, 2012, make the following corrections:

1. On page 19026, third column, in the DATES section, in the last sentence, “September 30, 2013” should read “September 25, 2012.”

2. On page 19029, in the first column, the fourth line from the top, “September 30, 2013” should read “September 25, 2012.”

[FR Doc. C1-2012-7498 Filed 4-2-12; 8:45 am]

BILLING CODE 1505-01-D